DEPARTMENT OF COMMERCE

Bureau of Industry and Security

15 CFR Part 744

[Docket No. 110128065-1135-01]

RIN 0694-AF12

Addition of Certain Persons on the Entity List: Addition of Persons Acting Contrary to the National Security or Foreign Policy Interests of the United States

AGENCY: Bureau of Industry and Security, Commerce.

ACTION: Final rule.

SUMMARY: This rule amends the Export Administration Regulations (EAR) by adding eight persons to the Entity List (Supplement No. 4 to part 744) on the basis of section 744.11 of the EAR. The persons who are added to the Entity List have been determined by the U.S. Government to be acting contrary to the national security or foreign policy interests of the United States. These eight persons will be listed under the following three destinations on the Entity List: France, Iran and the United Arab Emirates (U.A.E.).

The Entity List provides notice to the public that certain exports, reexports, and transfers (in-country) to parties identified on the Entity List require a license from the Bureau of Industry and Security (BIS) and that availability of license exceptions in such transactions is limited.

DATES: This rule is effective June 28, 2011.

FOR FURTHER INFORMATION CONTACT: Karen Nies-Vogel, Chair, End-User Review Committee, Office of the Assistant Secretary, Export Administration, Bureau of Industry and Security, Department of Commerce, Phone: (202) 482-5991, Fax: (202) 482-3911, E-mail: ERC@bis.doc.gov.

SUPPLEMENTARY INFORMATION:

Background

The Entity List provides notice to the public that certain exports, reexports, and transfers (in-country) to parties identified on the Entity List require a license from BIS, and that availability of license exceptions in such transactions is limited. Persons are placed on the Entity List on the basis of criteria set forth in certain sections of part 744 (Control Policy: End-User and End-Use Based) of the EAR.

The End-User Review Committee (ERC), composed of representatives of the Departments of Commerce (Chair), State, Defense, Energy and, where appropriate, Treasury, makes all decisions regarding additions to, removals from, or changes to the Entity List. The ERC makes all decisions to add an entry to the Entity List by majority vote, and all decisions to remove or modify an entry by unanimous vote.

ERC Entity List Decisions

The ERC made a determination to add eight persons to the Entity List on the basis of section 744.11 (License Requirements that Apply to Entities Acting Contrary to the National Security or Foreign Policy Interests of the United States) of the EAR. The eight entries added to the Entity List consist of three new entries in France, three new entries in Iran, and two new entries in the U.A.E.

The ERC reviewed the criteria for revising the Entity List (section 744.11(b) of the EAR) in making the determination to add these persons to the Entity List. These criteria establish how to add to the Entity List those entities that, based on specific and articulable facts, there is reasonable cause to believe have been involved, are involved, or pose a significant risk of being or becoming involved in activities that are contrary to the national security or foreign policy interests of the United States, and those acting on behalf of such entities (section 744.11 of the EAR). The persons being added to the Entity List under this rule have been determined by the ERC to be involved in activities that could be contrary to the national security or foreign policy interests of the United States. An illustrative list of such activities can be found in paragraphs (b)(1)-(b)(5) of section 744.11 of the EAR.

Pursuant to section 744.11, these eight persons are being added based on evidence that they have engaged in actions that could enhance the military capability of Iran, a country designated by the U.S. Secretary of State as having repeatedly provided support for acts of international terrorism. These persons are also being added because their overall conduct poses a risk of ongoing EAR violations.

Additions to the Entity List

This rule implements the decision of the ERC to add eight persons to the Entity List on the basis of section 744.11 of the EAR. For all eight persons added to the Entity List, the ERC specified a license requirement for all items subject to the EAR and established a license application review policy of a presumption of denial. A BIS license is required to export, reexport or transfer (in-country) any item subject to the EAR to any of the persons described below, including any transaction in which any of the listed persons will act as purchaser, intermediate consignee, ultimate consignee, or end-user of the items. This listing of these persons also prohibits the use of license exceptions (see part 740 of the EAR) for exports, reexports and transfers (in-country) of items subject to the EAR involving such persons.

Specifically, this rule adds the following eight persons to the Entity List:

France

(1) Aerotechnic France SAS, 8 Rue de la Bruyere, 31120 Pinsaguel, France;

(2) Luc Teuly, 8 Rue de la Bruyere, 31120 Pinsaguel, France; and

(3) Philippe Sanchez, 8 Rue de la Bruyere, 31120 Pinsaguel, France.

Iran

(1) Hassan Seifi, Unit #23, Eighth Floor, No. 193 West Sarve Boulevard Kaj Square, Saadat Abad, 19987-14434, Tehran, Iran;

(2) Reza Seifi, Unit #23, Eighth Floor, No. 193 West Sarve Boulevard Kaj Square, Saadat Abad, 19987-14434, Tehran, Iran; and

(3) Sabanican Company, (a.k.a., Sabanican Pad Co.), Unit #23, Eighth Floor, No. 193 West Sarve Boulevard Kaj Square, Saadat Abad, 19987-14434, Tehran, Iran.

United Arab Emirates

(1) Aletra General Trading, (a.k.a., Erman & Sultan Trading Co.), Sabkha Street, Shop No. 8, Dubai, U.A.E.; and

(2) Syed Amir Ahmed Najfi, Sabkha Street, Shop No. 8, Dubai, U.A.E.

Savings Clause

Shipments of items removed from eligibility for a license exception or export or reexport without a license (NLR) as a result of this regulatory action that were on dock for loading, on lighter, laden aboard an exporting or reexporting carrier, or en route aboard a carrier to a port of export or reexport, on June 28, 2011, pursuant to actual orders for export or reexport to a foreign destination, may proceed to that destination under the previous eligibility for a license exception or export or reexport without a license (NLR) so long as they are exported or reexported before July 13, 2011. Any such items not actually exported or reexported before midnight, on July 13, 2011, require a license in accordance with this rule.

Although the Export Administration Act expired on August 20, 2001, the President, through Executive Order 13222 of August 17, 2001, 3 CFR, 2001 Comp., p. 783 (2002), as extended by the Notice of August 12, 2010, 75 FR 50681 (August 16, 2010), has continued the EAR in effect under the International Emergency Economic Powers Act, 50 U.S.C. 1701, et seq.

Rulemaking Requirements

1. This rule has been determined to be not significant for purposes of Executive Order 12866.

2. Notwithstanding any other provision of law, no person is required to respond to nor be subject to a penalty for failure to comply with a collection of information, subject to the requirements of the Paperwork Reduction Act of 1995 (44 U.S.C. 3501 et seq.) (PRA), unless that collection of information displays a currently valid Office of Management and Budget (OMB) Control Number. This regulation involves a collection of information previously approved by the OMB under control number 0694-0088, “Multi-Purpose Application,” which carries a burden hour estimate of 58 minutes to prepare and submit form BIS-748. Miscellaneous and recordkeeping activities account for 12 minutes per submission. Total burden hours associated with the PRA and OMB control number 0694-0088 are expected to increase slightly as a result of this rule. However, this increase is not significant enough to require an amendment to the previously approved information collection. You may send comments regarding the collection of information associated with this rule, including suggestions for reducing the burden, to Jasmeet K. Seehra, Office of Management and Budget (OMB), by e-mail to Jasmeet_K._Seehra@omb.eop.gov, or by fax to (202) 395-7285.

3. This rule does not contain policies with Federalism implications as that term is defined in Executive Order 13132.

4. The provisions of the Administrative Procedure Act (5 U.S.C. 553) requiring notice of proposed rulemaking, the opportunity for public participation, and a delay in effective date, are inapplicable because this regulation involves a military or foreign affairs function of the United States (see 5 U.S.C. 553(a)(1)). BIS implements this rule to prevent items from being exported, reexported or transferred (in country) to the persons being added to the Entity List. If this rule were delayed to allow for notice and comment and a delay in effective date, then entities being added to the Entity List by this action would continue to be able to receive items without a license and to conduct activities contrary to the national security or foreign policy interests of the United States. In addition, because these parties may receive notice of the U.S. Government's intention to place these entities on the Entity List once a final rule was published it would create an incentive for these persons to either accelerate receiving items subject to the EAR to conduct activities that are contrary to the national security or foreign policy interests of the United States and/or to take steps to set up additional aliases, change addresses and take other steps to try to limit the impact of the listing on the Entity List once a final rule was published. Further, no other law requires that a notice of proposed rulemaking and an opportunity for public comment be given for this rule. Because a notice of proposed rulemaking and an opportunity for public comment are not required to be given for this rule by 5 U.S.C. 553, or by any other law, the analytical requirements of the Regulatory Flexibility Act, 5 U.S.C. 601 et seq., are not applicable.

List of Subjects in 15 CFR Part 744

Exports, Reporting and recordkeeping requirements, Terrorism.

Accordingly, part 744 of the Export Administration Regulations (15 CFR parts 730-774) are amended as follows:

PART 744—[AMENDED]

1. The authority citation for 15 CFR part 744 continues to read as follows:

Authority: 50 U.S.C. app. 2401 et seq.; 50 U.S.C. 1701 et seq.; 22 U.S.C. 3201 et seq.; 42 U.S.C. 2139a; 22 U.S.C. 7201 et seq.; 22 U.S.C. 7210; E.O. 12058, 43 FR 20947, 3 CFR, 1978 Comp., p. 179; E.O. 12851, 58 FR 33181, 3 CFR, 1993 Comp., p. 608; E.O. 12938, 59 FR 59099, 3 CFR, 1994 Comp., p. 950; E.O. 12947, 60 FR 5079, 3 CFR, 1995 Comp., p. 356; E.O. 13026, 61 FR 58767, 3 CFR, 1996 Comp., p. 228; E.O. 13099, 63 FR 45167, 3 CFR, 1998 Comp., p. 208; E.O. 13222, 66 FR 44025, 3 CFR, 2001 Comp., p. 783; E.O. 13224, 66 FR 49079, 3 CFR, 2001 Comp., p. 786; Notice of August 12, 2010, 75 FR 50681 (August 16, 2010); Notice of November 4, 2010, 75 FR 68673 (November 8, 2010); Notice of January 13, 2011, 76 FR 3009 (January 18, 2011).

2. Supplement No. 4 to part 744 is amended:

(a) By adding, in alphabetical order, the destination of France under the Country column and three French entities;

(b) By adding under Iran, in alphabetical order, three Iranian entities; and

(c) By adding under the United Arab Emirates, in alphabetical order, two U.A.E. entities.

The additions read as follows:

Supplement No. 4 to Part 744—Entity List
Country | Entity | License requirement | License review policy | Federal Register citation
* * * * * * *
France | Aerotechnic France SAS, 8 Rue de la Bruyere, 31120 Pinsaguel, France | For all items subject to the EAR. (See § 744.11 of the EAR) | Presumption of denial | 76 FR [INSERT FR PAGE NUMBER] June 28, 2011.
| Luc Teuly, 8 Rue de la Bruyere, 31120 Pinsaguel, France | For all items subject to the EAR. (See § 744.11 of the EAR) | Presumption of denial | 76 FR [INSERT FR PAGE NUMBER] June 28, 2011.
| Philippe Sanchez, 8 Rue de la Bruyere, 31120 Pinsaguel, France | For all items subject to the EAR. (See § 744.11 of the EAR) | Presumption of denial | 76 FR [INSERT FR PAGE NUMBER] June 28, 2011.
* * * * * * *
Iran
* * * * * * *
| Hassan Seifi, Unit #23, Eighth Floor, No. 193 West Sarve Boulevard Kaj Square, Saadat Abad, 19987-14434, Tehran, Iran | For all items subject to the EAR. (See § 744.11 of the EAR) | Presumption of denial | 76 FR [INSERT FR PAGE NUMBER] June 28, 2011.
* * * * * * *
| Reza Seifi, Unit #23, Eighth Floor, No. 193 West Sarve Boulevard Kaj Square, Saadat Abad, 19987-14434, Tehran, Iran | For all items subject to the EAR. (See § 744.11 of the EAR) | Presumption of denial | 76 FR [INSERT FR PAGE NUMBER] June 28, 2011.
* * * * * * *
| Sabanican Company (a.k.a., Sabanican Pad Co.), Unit #23, Eighth Floor, No. 193 West Sarve Boulevard Kaj Square, Saadat Abad, 19987-14434, Tehran, Iran | For all items subject to the EAR. (See § 744.11 of the EAR) | Presumption of denial | 76 FR [INSERT FR PAGE NUMBER] June 28, 2011.
* * * * * * *
United Arab Emirates
* * * * * * *
| Aletra General Trading (a.k.a., Erman & Sultan Trading Co.), Sabkha Street, Shop No. 8, Dubai, U.A.E | For all items subject to the EAR. (See § 744.11 of the EAR) | Presumption of denial | 76 FR [INSERT FR PAGE NUMBER] June 28 2011,
* * * * * * *
| Syed Amir Ahmed Najfi, Sabkha Street, Shop No. 8, Dubai, U.A.E | For all items subject to the EAR. (See § 744.11 of the EAR) | Presumption of denial | 76 FR [INSERT FR PAGE NUMBER] June 28, 2011.
* * * * * * *

Dated: June 21, 2011.
Kevin J. Wolf,
Assistant Secretary for Export Administration.

[FR Doc. 2011-16165 Filed 6-27-11; 8:45 am]

BILLING CODE 3510-33-P